DEPARTMENT OF EDUCATION

[CFDA No.: 84.292B]

Bilingual Education: Field-Initiated Research Program; Notice Inviting Applications for New Awards for Fiscal Year (FY) 2001

Note to Applicants: This notice is a complete application package. Together with the statute authorizing the program and applicable regulations governing this program, including the Education Department General Administrative Regulations (EDGAR), this notice contains all of the information, application forms, and instructions needed to apply for a grant under this program. The statutory authorization for this program is contained in section 7132 of the Elementary and Secondary Education Act of 1965 (ESEA), 20 U.S.C. 7452, as amended by the Improving America's Schools Act of 1994, Public Law 103-382 (October 20, 1994).

Purpose of Program: The purpose of this program is to provide grants for field-initiated research activities related to the improvement of bilingual education and special alternative instructional programs for limited English proficient (LEP) children and youth.

Eligible Applicants: Institutions of higher education, nonprofit organizations, State educational agencies, and local educational agencies that have received grants under subparts 1 or 2 of Part A of title VII of the ESEA within the previous five years.

Applications Available: January 9, 2001

Deadline for Transmittal of Applications: February 8, 2001.

Deadline for Intergovernmental Review: March 12, 2001.

Available Funds: $1,000,000.

Estimated Range of Awards: $100,000-$150,000.

Estimated Average Per Year: $115,000.

Estimated Number of Awards: 8.

Note: The Administration has requested $1,000,000 for new awards under the Field-Initiated Research program in FY2001. The actual level of funding, if any, depends upon final congressional action.

Project Period: 24 months.

Applicable Regulations: (a) The Education Department General Administrative Regulations (EDGAR) in 34 CFR parts 74, 75, 77, 79, 80, 81, 82, 85, 86, 97, 98, and 99; and, (b) The regulations in 34 CFR part 299, General Provisions, ESEA.

Description of Program

Funds under this program are available to carry out field-initiated research conducted by current or recent recipients of grants under subparts 1 or 2 who have received those grants within the previous five years. Research under this program may provide for longitudinal studies of students or teachers in bilingual education, monitoring the education of those students from entry in bilingual education through secondary school completion.

Priorites

Invitational Priorities: The Secretary is particularly interested in applications that meet the following invitational priorities. However, an application that meets these invitational priorities does not receive competitive or absolute preference over other applications (34 CFR 75.105(c)(1)):

Applications that propose to focus on research that leads to answering significant questions on the assessment of academic achievement for LEP students.

Applications that propose to address the following question: At what point along the language proficiency continuum does testing a student in the second language in the content areas yield meaningful and valid results?

Applications that propose to study the comprehensiveness, alignment, and validity of state-wide testing and data analysis systems. Information related to the substance of this invitational priority can be found at the LEP Students and High-Stakes Assessment published in April, 2000, available at the NCBE website: www.ncbe.gwu.edu and also in the report: An Analysis of State Policies for the Inclusion and Accommodation of English Language Learners in State Assessment Programs. During 1998-1999, available at the website of the Center for Equity and Excellence in Education of the George Washington University: http://ceee.gwu.edu.

Note: The Secretary is particularly interested in applications from SEAs that address these invitational priorities.

Note: For further information on assessment issues, see “High Stakes Assessment: A Research Agenda for English Language Learners”, which is available from the National Clearinghouse for Bilingual Education, telephone—1-800-321-6223 or website at: http://www.ncbe.gwu.edu.

Selection Criteria

The Secretary uses the following selection criteria in 34 CFR 75.210 to evaluate applications for new grants under this competition.

The maximum score for all of these criteria is 100 points.

The maximum score for each criterion is indicated in parentheses.

(a) Need for the project (5 points). (1) The Secretary considers the need for the proposed project.

(2) In determining the need for the proposed project, the Secretary considers the extent to which specific gaps or weaknesses in services, infrastructure, or opportunities have been identified and will be addressed by the proposed project, including the nature and magnitude of those gaps or weaknesses.

(b) Significance (10 points). (1) The Secretary considers the significance of the proposed project.

(2) In determining the significance of the proposed project, the Secretary considers the following factors:

(i) The significance of the problem or issue to be addressed by the proposed project.

(ii) The potential contribution of the proposed project to increased knowledge or understanding of educational problems, issues, or effective strategies.

(iii) The likelihood that the proposed project will result in system change or improvement.

(iv) The importance or magnitude of the results or outcomes likely to be attained by the proposed project, especially improvements in teaching and student achievement.

(c) Quality of the project design (50 points). (1) The Secretary considers the quality of the design of the proposed project.

(2) In determining the quality of the design of the proposed project, the Secretary considers the following factors:

(i) The extent to which the goals, objectives, and outcomes to be achieved by the proposed project are clearly specified and measurable.

(ii) The extent to which the proposed project is based upon a specific research design, and the quality and appropriateness of that design, including the scientific rigor of the studies involved.

(iii) The extent to which the design of the proposed project includes a thorough, high-quality review of the relevant literature, a high-quality plan for project implementation, and the use of appropriate methodological tools to ensure successful achievement of project objectives.

(iv) The extent to which the proposed project is part of a comprehensive effort to improve teaching and learning and support rigorous academic standards for students.

(d) Quality of project personnel (20 points). (1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(e) Adequacy of resources (5 points). (1) The Secretary considers the adequacy of resources for the proposed project.

(2) In determining the adequacy of resources for the proposed project, the Secretary considers the following factors:

(i) The extent to which the budget is adequate to support the proposed project.

(ii) The extent to which the costs are reasonable in relation to the objectives, design, and potential significance of the proposed project.

(f) Quality of the management plan (10 points). (1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

Intergovernmental Review of Federal Programs

This program is subject to the requirements of Executive order 12372 (Intergovernmental Review of Federal Programs) and the regulations in 34 CFR part 79. The objective of the Executive Order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedure established in each State under the Executive order. If you want to know the name and address of any State Single Point of Contact, see the list published in the Federal Register on April 28, 1999 (64 FR 22963); or you may view the latest SPOC list on the OMB Web site at the following address: http://www.whitehouse.gov/omb/grants.

In States that have not established a process or chosen a program for review, State, areawide, regional, and local entities may submit comments directly to the Department. Any State Process Recommendation and other comments submitted by a State Single Point of Contact and any comments from State, areawide, regional, and local entities must be mailed or hand-delivered by the date indicated in this notice to the following address: The Secretary, E.O. 12372—CFDA# 84.292B, U.S. Department of Education, Washington, D.C. 20202-0124.

Proof of mailing will be determined on the same basis as applications (see 34 CFR 75.102). Recommendations or comments may be hand-delivered until 4:30 p.m. (EST) on the date indicated in this Notice.

Please note that the above address is not the same address as the one to which the applicant submits its completed application. Do not send applications to the above address.

Grants involving research on human subjects will require compliance with the Department's Protection of Human Subjects Regulations, 34 CFR part 97. The regulations and information about the regulations can be found at http://ocfo.ed/humansub.htm. For quick overview, see in particular “Information About the Requirements at the Application/Proposal Stage and After Award.”

Instructions for Transmittal of Applications

(a) If an applicant wants to apply for a grant, the applicant must—

(1) Mail the original and two copies of the application on or before the deadline date to: U.S. Department of Education, Application Control Center, Attention (CFDA #84.292B), Washington, DC 20202-4725 or

(2) Hand-deliver the original and two copies of the application by 4:30 p.m. (EST) on or before the deadline date to: U.S. Department of Education, Application Control Center, Attention: (CFDA #84.292B), Room #3633, Regional Office Building #3, 7th and D Streets SW., Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Note: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9495.

(3) The applicant must indicate on the envelope and—if not provided by the Department—in Item 3 of the Application for Federal Education Assistance (ED 424) the CFDA number—and suffix letter, if any—of the competition under which the application is being submitted.

Application Instructions and Forms

The appendix to this notice contains the following forms and instructions, plus a statement regarding estimated public reporting burden, a notice to applicants regarding compliance with section 427 of the General Education Provisions Act (GEPA), a checklist for applicants, various assurances, certifications, and required documentation:

a. Instructions for the Application Narrative.

b. Additional Guidance.

c. Estimated Public Reporting Burden Statement.

d. Notice to All Applicants.

e. Checklist for Applicants.

f. Application for Federal Education Assistance (ED 424) and instructions.

g. Budget Information—Non-Construction Programs (ED Form 524) and instructions.

h. Eligibility Certification.

i. Assurances—Non-Construction Programs (Standard Form 424B) and instructions.

j. Certifications Regarding: Lobbying; Debarment, Suspension and Other Responsibility Matters; and Drug-Free Workplace Requirements (ED 80-0013) and instructions.

k. Certification Regarding Human Subject Regulations 34 CFR part 97. Grants involving research on human subjects will require compliance with the Department's Protection of Human Subjects Regulations (ED 424).

l. Certification Regarding Debarment, Suspension, Ineligibility and Voluntary Exclusion: Lower Tier Covered Transactions (ED 80-0014, 9/90) and instructions.

(Note: ED 80-0014 is intended for the use of grantees and should not be transmitted to the Department.)

m. Disclosure of Lobbying Activities (Standard Form LLL) (if applicable) and instructions. This document has been marked to reflect statutory changes. See the notice published in the Federal Register (61 FR 1413) by the Office of Management and Budget on January 19, 1996.

An applicant may submit information on a photostatic copy of the application and budget forms, the assurances, and the certifications. However, the application form, the assurances, and the certifications must each have an original signature.

All applicants must submit ONE original signed application, including ink signatures on all forms and assurances, and TWO copies of the application. Please mark each application as original or copy. No grant may be awarded unless a completed application has been received.

For Further Information Contact: Socorro Lara, U.S. Department of Education, 400 Maryland Ave., SW., Room 5090, Switzer Building, Washington, DC 20202-6510. Telephone: (202) 205-9730. Individuals who use a telecommunications device for the deaf (TDD) may call the Federal Information Relay Service (FIRS) at 1-800-877-8339.

Individuals with disabilities may obtain this notice in an alternative format (e.g., Braille, large print, audiotape, or computer diskette) on request to the contact person listed in the preceding paragraph. Please note, however, that the Department is not able to reproduce in an alternative format the standard forms included in the notice.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office toll free at 1-888-293-6498 or in the Washington, DC area at (202) 512-1530.

Note: The official version of this document is the document published in the Federal Register. Free Internet access to the official edition of the Federal Register and the Code of Federal Regulations is available on GPO Access at: http://www.access.gpo.gov/nara/index.html.

Program Authority: 20 U.S.C. 7452.

Dated: January 3, 2001.
Art Love,
Acting Director, Office of Bilingual Education and Minority Languages Affairs.

Estimated Public Reporting Burden Statement

According to the Paperwork Reduction Act of 1995, no persons are required to respond to a collection of information unless it displays a valid OMB control number. The valid OMB control number for this information collection is OMB No. 1885-0547 (Exp. 04/30/2002). The time required to complete this information collection is estimated to average 145 hours per response, including the time to review instructions, search existing data resources, gather the data needed, and complete and review the information collection. If you have any comments concerning the accuracy of the time estimate or suggestions for improving this form, please write to: U.S. Department of Education, Washington, DC 20202-4651.

If you have comments or concerns regarding the status of your individual submission of this form, write directly to: Office of Bilingual Education and Minority Languages Affairs, U.S. Department of Education, 400 Maryland Avenue SW., Room 5086, Switzer Building, Washington, DC 20202-6510.

Application Instructions

Mandatory Page Limit for the Application Narrative

The narrative is the section of the application where you address the selection criteria used by reviewers in evaluating the application. You must limit the narrative to the equivalent of no more than 50 pages, using the following standards: (1) A page is 8.5″ x 11″, on one side only with 1″ margins at the top, bottom, and both sides. (2) You must double space (no more than three lines per vertical inch) all text in the application narrative, including titles, headings, footnotes, quotations, references, and captions, as well as all text in charts, tables, figures and graphs. If you use a proportional computer font, you may not use a font smaller than a 12-point font. If you use a non-proportional font or a typewriter, you may not use more than 12 characters per inch. The page limit does not apply to the Application for Federal Education Assistance Form (ED 424); the Budget Information Form (ED 524) and attached itemization of costs; the other application forms and attachments to those forms; the assurances and certifications; or the one-page abstract and table of contents described below. If, in order to meet the page limit, you use print size, spacing or margins smaller than the standards specified in this notice, your application will not be considered for funding.

Selection Criteria

The narrative should address fully all aspects of the selection criteria in the order listed and should give detailed information regarding each criterion. Do not simply paraphrase the criteria. Do not include resumes or curriculum vitae for project personnel; provide position descriptions instead.

Additional Guidance

Table of Contents

The application should include a table of contents listing the sections in the order required.

Budget

Budget line items must support the goals and objectives of the proposed project and must be directly related to the instructional design and all other project components.

Final Application Preparation

Use the Checklist for Applicants to verify that your application is complete. Submit three copies of the application, including an original copy containing an original signature for each form requiring the signature of the authorized representative. Do not use elaborate bindings or covers. The application package must be mailed or hand-delivered to the Application Control Center (ACC) and postmarked by the deadline date.

Checklist for Applicants

The following forms and other items must be included in the application in the order listed below:

1. Application for Federal Education Assistance Form (ED 424).

2. Eligibility Certification.

3. Budget Information Form (ED Form 524).

4. Itemized budget for each year.

5. Certification Regarding Human Subject Regulations 34 CFR Part 97. Grants involving research on human subjects will require compliance with the Department's Protection of Human Subjects Regulations (ED 424).

6. Assurances—Non-Construction Programs Form (SF 424B).

7. Certifications Regarding Lobbying, Debarment, Suspension and Other Responsibility Matters; and Drug-Free Workplace Requirements Form (ED 80-0013).

8. Certification Regarding Debarment, Suspension, Ineligibility and Voluntary Exclusion—Lower Tier Covered Transactions Form (ED 80-0014) (if applicable).

9. Disclosure of Lobbying Activities Form (SF-LLL).

10. Form on General Education Provisions Act (GEPA) Requirement.

11. Table of Contents.

12. Application narrative, including abstract (not to exceed 50 pages).

13. One original and two copies of the application for transmittal to the Education Department's Application Control Center.

BILLING CODE 4000-01-U

[FR Doc. 01-559 Filed 1-8-01; 8:45 am]

BILLING CODE 4000-01-C